DEPARTMENT OF THE INTERIOR

Office of the Secretary

Interior Fire Program Assessment 2012

AGENCY: Office of Wildland Fire, Interior.

ACTION: Notice of Tribal consultations and informational meetings.

SUMMARY: The Office of Wildland Fire is announcing tribal consultations to discuss the following topics: (1) The Interior Fire Program Assessment 2012; and (2) potential options being considered as a result of the Interior Fire Program Assessment 2012.

DATES: See the SUPPLEMENTARY INFORMATION section of this notice for consultation dates.

ADDRESSES: See the SUPPLEMENTARY INFORMATION section of this notice for locations where the consultations will be held.

FOR FURTHER INFORMATION CONTACT: Jim Douglas, Senior Advisor, Public Safety, Resource Protection, and Emergency Services, (202) 208-7754.

SUPPLEMENTARY INFORMATION: Federally recognized tribes are invited to attend one or more of the consultation and informational sessions regarding the Interior Fire Program Assessment 2012.

• In their report on the Department of the Interior, Environment, and Related Agencies Appropriation Bill for fiscal year 2012, the House of Representatives Committee on Appropriations stated, in part, “The Committee is aware of the duplication that exists in the Department of the Interior's wildland fire programs, with multiple parallel organizations in four bureaus, each having nearly identical administrative organizations at the national, state, and regional levels, and at the local level.” The Committee went on in the report to direct the Department of the Interior to “complete an assessment of the Department's wildland fire management programs in order to determine the most cost effective, efficient means of providing comprehensive fire management services in support of the Departmental and bureau missions and to better direct scarce resources from duplicative administrative management organizations to focus resources on the protection of lives, property and natural and cultural resources.” The Committee asked for a set of options for restructuring and conducting the wildland fire management programs.

• In response to the Committee's report, the Department of the Interior contracted the services of PricewaterhouseCoopers (the Assessment Team) to conduct an assessment considering the specific areas of wildland fire management referenced in the report to include, “the Department and bureau roles and responsibilities for administration and management of preparedness, suppression operation, hazardous fuels reduction, burned area rehabilitation, fire facilities, fire science, community assistance, and budget and finance functions.” The Assessment Team was also asked to, evaluate existing alternative models for service delivery, including the Alaska Fire Service, state, and other countries and identify resources that can be redirected to on-the-ground services through reorganization of its wildland fire management programs.”

• This review is ongoing and has included the Office of Wildland Fire, Bureau of Indian Affairs, Bureau of Land Management, National Park Service, Fish and Wildlife Service, the U.S. Geological Survey, and the Bureau of Reclamation. Although the USDA Forest Service is not included in the review, they have been consulted and interviews have been conducted as they are a major partner in the Federal wildland fire management program.

• On June 19, 2012, Task 1, the identification of potential opportunities, was completed; and Task 2, development of recommendations, began. As part of Task 2, and in support of the Consultation and Coordination with Indian Tribal Governments requirements outlined in Executive Order 13175 and the Secretary of the Interior's Order No. 3317, the Department of the Interior is conducting three Tribal Consultation sessions during the week of August 26, 2012.

• At these sessions the Department will present background information on the Interior Fire Program Assessment 2012 project, the options that have been prepared by the Assessment Team, and the criteria for evaluating those options.

• The Assessment Team's summary document will be available at: http://www.doi.gov/pmb/owf/Tribal_Consultation_Advance_Materials.cfm no later than July 27, 2012.

• After the consultations are completed, there will be an opportunity to provide additional feedback to the Assessment Team by emailing your comments to IFPA12@ios.doi.gov, by 5 p.m., on September 12, 2012.

Meeting Dates and Locations

The consultation sessions will be held on the following dates, at the following locations:

Meeting date | Location | Time
August 27, 2012 | National Indian Programs Training Center, 1011 Indian School Road N.W., Suite 254, Albuquerque, NM 87104 | 0830-1200
August 28, 2012 | Northern Quest Resort and Casino, 2012 Northern Quest Casino, 100 North Hayford Road, Airway Heights, WA 99001 | 0830-1200
August 31, 2012 | Mid-West Regional Office, Bureau of Indian Affairs, Department of the Interior, Norman Pointell Building, 5600 West America Blvd., Suite 500, Bloomington, MN 55347 | 0830-1200

Meeting Agenda
[All times are local]
Time | Topic
0830-0900 | Welcome and Introductions.
0900-1000 | Presentation.
1000-1200 | Questions and Concerns.
1200 | Adjourn.

Dated: July 24, 2012.
Amy Holley,
Chief of Staff, Policy, Management and Budget.

[FR Doc. 2012-18723 Filed 7-31-12; 8:45 am]

BILLING CODE 4310-RK-P